DEPARTMENT OF EDUCATION

National Assessment Governing Board; Meeting

AGENCY: National Assessment Governing Board, Department of Education.

ACTION: Notice; correction.

SUMMARY: The National Assessment Governing Board published a document in the Federal Register on February 21, 2019, announcing the schedule and proposed agenda of a forthcoming quarterly meeting of the National Assessment Governing Board to be convened on February 28, March 1, and March 2, 2019. The meeting agenda has been revised to reflect a change to the meeting schedule for Friday, March 1, 2019 by adding a closed session as detailed below.

DATES: Applicable February 27, 2019.

FOR FURTHER INFORMATION CONTACT: Munira Mwalimu, Executive Officer/Designated Federal Official for the Governing Board, 800 North Capitol Street NW, Suite 825, Washington, DC 20002. Phone number: (202) 357-6906. Fax: (202) 357-6945. Email: Munira.Mwalimu@ed.gov.

If you use a telecommunications device for the deaf (TDD) or a text telephone (TTY), call the Federal Relay Service (FRS), toll free, at 1-800-877-8339.

SUPPLEMENTARY INFORMATION:

Correction:

In the Federal Register notice number FR Doc. 84 FR,35, Pages 5426-5427 (2 pages) Document Number, 2019-02885 filed on February 20, 2019, the National Assessment Governing Board published a notice of its open and closed meetings scheduled to take place on February 28, March 1, and March 2, 2019. The notice is hereby amended to add a closed session on Friday, March 1, 2019 from 8:00 a.m. to 8:25 a.m. to receive a briefing from the Governing Board's search committee on applications received for the Governing Board's Executive Director vacancy, and to discuss a recommendation from the Executive Committee to appoint the Executive Director. The Governing Board's discussions pertain solely to internal personnel rules and practices of an agency and information of a personal nature where disclosure would constitute a clearly unwarranted invasion of personal privacy. As such, the discussions are protected by exemptions 2 and 6 of § 552b(c) of Title 5 of the United States Code.

Following the closed session, the full Board meeting will meet from 8:25 a.m. to 8:30 a.m. to take a vote on the recommendation for appointment of the Executive Director. The remainder of the meeting agenda as published in the original notice is unchanged.

Access to Records of the Meeting: Pursuant to FACA requirements, the public may also inspect the meeting materials at www.nagb.gov beginning on Thursday, February 28, 2019 by 10:00 a.m. Washington, DC Time. The official verbatim transcripts of the public meeting sessions will be available for public inspection no later than 30 calendar days following the meeting.

Reasonable Accommodations: The meeting site is accessible to individuals with disabilities. If you will need an auxiliary aid or service to participate in the meeting (e.g., interpreting service, assistive listening device, or materials in an alternate format), notify the contact person listed in this notice at least two weeks before the scheduled meeting date. Although we will attempt to meet a request received after that date, we may not be able to make available the requested auxiliary aid or service because of insufficient time to arrange it.

Electronic Access to This Document: The official version of this document is the document published in the Federal Register. You may access the official edition of the Federal Register and the Code of Federal Regulations at www.govinfo.gov. At this site you can view this document, as well as all other documents of this Department published in the Federal Register, in text or PDF. To use PDF you must have Adobe Acrobat Reader, which is available free at the site.

You may also access documents of the Department published in the Federal Register by using the article search feature at: www.federalregister.gov. Specifically, through the advanced search feature at this site, you can limit your search to documents published by the Department.

Authority: Pub. L. 107-279, Title III—National Assessment of Educational Progress § 301.

Dated: February 22, 2019.
Lisa Stooksberry,
Deputy Executive Director, National Assessment Governing Board (NAGB), U.S. Department of Education.

[FR Doc. 2019-03386 Filed 2-26-19; 8:45 am]

BILLING CODE 4000-01-P